NATIONAL FOUNDATION FOR THE ARTS AND HUMANITIES

General Clearance for Guidelines, Applications, and Reporting Forms

AGENCIES: Institute of Museum and Library Services, National Foundation for the Arts and Humanities.

ACTION: Notice of requests for information collection, comment request.

SUMMARY: The Institute of Museum and Library Services as part of its continuing effort to reduce paperwork and respondent burden, conducts a preclearance consultation program to provide the general public and Federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. The Institute of Museum and Library Services is currently soliciting comments on IMLS program guidelines and reporting requirements.

DATES: Comments must be received by January 2, 2007. The IMLS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the documents contact: Barbara Smith, E-Projects Officer, Institute of Museum and Library Services, 1800 M Street, NW., 9th Floor, Washington, DC. Ms. Smith can be reached by telephone: 202-653-4688; fax: 202-653-8625; or e-mail: bsmith@imls.gov.

SUPPLEMENTARY INFORMATION:

I. Background

The Institute of Museum and Library Services (IMLS) is an independent Federal grant-making agency authorized by the Museum and Library Services Act, Pub. L. 104-208. IMLS is charged with promoting the improvement of library and museum services for the benefit of the public. Through grant-making and library and museum services, IMLS seeks to assure that libraries and museums are able to play an active role in cultivating an educated and engaged citizenry. IMLS builds the capacities of libraries and museums by encouraging the highest standards in management, pubic service, and education; leadership in the use of technology; strategic planning for results, and partnerships to create new networks that support lifelong learning and the effective management of assets. According to its strategic plan, IMLS is dedicated to creating and sustaining a nation of learners by helping libraries and museums serve their communities. IMLS believes that libraries and museums are key resources for education in the United States and promote the vision of a learning society in which learning is seen as a community-wide responsibility supported by both formal and informal educational entities.

Pub. L. 104-208 enacted on September 30, 1996 contains the Library Services and Technology Act and the Museum Services Act. These Acts authorize the Director of the Institute of Museum and Library Services to make grants, contracts, and cooperative agreements for activities that support museum and library services to the public.

II. Current Actions

To administer these programs of grants, cooperative agreements and contracts, IMLS must develop application guidelines, applications and reporting forms.

Agency: Institute of Museum and Library Services.

Title: IMLS Guidelines, Applications and Reporting Forms

OMB Number: 3137-0029, 3137-0049, 3137-0056, 3137-0057; 3137-0060; 3137-0065.

Agency Number: 3137.

Frequency: Annually, Semi-annually.

Affected Public: State Library Administrative Agencies, museums, libraries, institutions of higher education, library and museum professional associations, and museum and library professionals, Native tribes.

Number of Respondents: 4700.

Estimated Time Per Respondent: .25-120 hours.

Total Burden Hours: 69,019.

Total Annualized Capital/Startup Costs: 0.

Total Annual Costs: $1,380,000.

Contact: For a copy of the documents contact: Barbara Smith, E-Projects Officer, Institute of Museum and Library Services, 1800 M Street, NW., 9th Floor, Washington, DC. Ms. Smith can be reached by telephone: 202-653-4688; fax: 202-653-8625; or e-mail: bsmith@imls.gov.

Dated: October 30, 2006.
Rebecca Danvers,
Director of Research and Technology.

[FR Doc. E6-18551 Filed 11-2-06; 8:45 am]

BILLING CODE 7036-01-P